CONSUMER PRODUCT SAFETY COMMISSION

Sunshine Act Meeting

Time and Date: Wednesday June 15, 2016, 10:00 a.m.-4:00 p.m.

Place: Hearing Room 420, Bethesda Towers, 4330 East-West Highway, Bethesda, Maryland.

Status: Commission Meeting—Open to the Public.

Matters To Be Considered: Hearing: Agenda and Priorities for Fiscal Years 2017 and 2018. A live webcast of the Meeting can be viewed at www.cpsc.gov/live.

FOR FURTHER INFORMATION CONTACT: Todd A. Stevenson, Office of the Secretary, U.S. Consumer Product Safety Commission, 4330 East West Highway, Bethesda, MD 20814, (301) 504-7923.

Dated: June 7, 2016.
Todd A. Stevenson,
Secretary.

[FR Doc. 2016-13855 Filed 6-8-16; 11:15 am]

BILLING CODE 6355-01-P